DEPARTMENT OF ENERGY

Federal Energy Regulatory Commission

[Project No. 2660-024]

Domtar Maine LLC; Notice Of Application Ready for Environmental Analysis and Soliciting Comments, Recommendations, Terms and Conditions, and Prescriptions

November 5, 2009.

Take notice that the following hydroelectric application has been filed with the Commission and is available for public inspection.

a. Type of Application: New license.

b. Project No.: 2660-024.

c. Date filed: March 19, 2009.

d. Applicant: Domtar Maine LLC.

e. Name of Project: Forest City Project.

f. Location: On Forest City Stream, a tributary of the St. Croix River in Washington and Aroostock Counties, Maine and Canada.

g. Filed Pursuant to: Federal Power Act 16 U.S.C. 791(a)-825(r)

h. Applicant Contact: Mr. Scott Beal, Domtar Maine LLC, 144 Main Street, Baileyville, Maine 04694 (207) 427-4004.

i. FERC Contact: John Costello (202) 502-6119 or john.costello@ferc.gov.

j. Deadline for filing comments, recommendations, terms and conditions, and prescriptions is 60 days from the issuance date of this notice; reply comments are due 105 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov/docs-filing/ferconline.asp) under the “e-filing” link. For a simpler method of submitting text only comments, click on “Quick Comment.”

k. This application has been accepted, and is ready for environmental analysis at this time.

l. The existing Forest City Project comprise an earth embankment dam containing a gated timber spillway and two impoundments (East Grand and North lakes). There are no generating facilities located at the project. Approximately one-quarter of the 544-foot-long dam (i.e., approximately 147 feet) is within the United States. The United States (western) section of the dam is an earth embankment measuring approximately 110-feet-long with a maximum height of 12 feet. The center section of the dam (i.e., that portion located in the river channel) contains a 55-foot-wide gated timber crib spillway structure with three wooden gates (gates 1 and 2 are located within the United States). The spillway is approximately 33 feet-wide with an elevation of 426.61 feet. A 5 foot-wide vertical slot design fishway is located in Canada. The eastern (Canadian) embankment is an earth structure approximately 397 feet-long, 30 feet-long with a crest elevation of 437.27 feet msl. No new construction is planned.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this or other pending projects. For assistance, contact FERC Online Support.

n. A license applicant must file no later than 60 days following the date of issuance of this notice: (1) A copy of the water quality certification; (2) a copy of the request for certification, including proof of the date on which the certifying agency received the request; or (3) evidence of waiver of water quality certification.

Kimberly D. Bose,
Secretary.

[FR Doc. E9-27295 Filed 11-12-09; 8:45 am]

BILLING CODE 6717-01-P